DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Momiao Xiong, Ph.D., The University of Texas Health Science Center at Houston: On November 26, 2001, the U.S. Public Health Service (PHS) entered into a Voluntary Exclusion Agreement with The University of Texas Health Science Center at Houston (UTHSCH) and Momiao Xiong, Ph.D., an Assistant Professor at UTHSCH. Based on the report of an inquiry conducted by UTHSCH, and any related actions and findings by UTHSCH, as well as additional analysis conducted by ORI in its oversight review, PHS found that Dr. Xiong engaged in scientific misconduct by plagiarizing and fabricating data in National Institute of General Medical Sciences (NIGMS), National Institutes of Health (NIH), grant application R01 GM64353-01, “Genetics of Human Pigmentation and Skin Response” (Pigmentation Application), on which he was a co-investigator. The plagiarized and fabricated data were essential to the scientific validity of the proposed research and were important for NIH's scientific evaluation of the Pigmentation Application. Dr. Xiong has admitted his actions.

Specifically, PHS and UTHSCH found that Dr. Xiong: (1) plagiarized text from another researcher's grant application, which Dr. Xiong had obtained during the NIH confidential review process and used without appropriate citation in the Pigmentation Application; and (2) falsified research in the Pigmentation Application by (a) falsely claiming that he had performed an extensive series of simulations to evaluate the power to detect genes influencing pigmentation traits by the proposed statistical analysis, and (b) falsely representing estimates from previous work on unrelated individuals as being appropriate for large families in the proposed research.

The Voluntary Exclusion Agreement (Agreement) states that Dr. Xiong:

(1) Will not serve as a principal investigator on PHS grants for one (1) year, beginning on November 26, 2001;

(2) Will exclude himself from serving in any advisory capacity to PHS, including but not limited to service on any PHS advisory committee, board, and/or peer review committee, or as a consultant for a period of three (3) years, beginning on November 26, 2001;

(3) Agrees that he and any institution employing him are required to certify, in every PHS application or report in which Dr. Xiong is involved: (a) That all persons who contribute original sources of ideas, data, or research results to the applications or reports are properly cited or otherwise acknowledged; and

(b) that the applications or reports do not contain any falsified, fabricated, or misleading information, for a period of three (3) years, beginning on November 26, 2001. This requires Dr. Xiong and the institution, with respect to Dr. Xiong's contributions to the application or report, to certify that all individuals (both within and outside the institution) who contributed to the application or report are acknowledged. The institution must also send a copy of the certification to ORI; and

(4) Accepts the following UTHSCH administrative actions: (a) Dr. Xiong must send a formal, written apology to the principal and co-investigators explicitly acknowledging his plagiarism from their grant application; (b) for a one year period starting October 11, 2001, Dr. Xiong may not: (i) Submit, as a principal investigator, any new grant applications, including applications to any federal, state, or local government agencies, as well as any private foundations or agencies; or (ii) submit any publications without providing certification, co-signed by his immediate supervisor, that any manuscript for publication does not contain any plagiarized information or any falsified, fabricated, or misleading information; (c) for an additional two year period, Dr. Xiong must similarly certify any grant application or publication; (d) for the next three years, to submit any grant application or publication, Dr. Xiong must have a signed statement from his immediate supervisor stating that the supervisor has reviewed the materials and finds no indication of plagiarism, falsification or fabrication of data, nor any other form of scientific misconduct; (e) for the next academic year, Dr. Xiong is required to participate in a course in the responsible conduct of research, and in the year after completing the course, serve as a co-instructor in a small discussion group for all breakout sessions of the course; and (f) within two years, Dr. Xiong must write a formal essay, of publication quality, in English and Chinese, on plagiarism for submission to the Executive Vice President for Research, UTHSCH, and for publication.

FOR FURTHER INFORMATION CONTACT: Director, Division of Investigative Oversight, Office of Research Integrity, 5515 Security Lane, Suite 700, Rockville, MD 20852, (301) 443-5330.

Chris B. Pascal,
Director, Office of Research Integrity.

[FR Doc. 01-30437 Filed 12-7-01; 8:45 am]

BILLING CODE 4150-31-P